SMALL BUSINESS ADMINISTRATION

Region III Advisory Council Meeting; Public Meeting

The U.S. Small Business Administration Region III Advisory Council, located in the geographical area of Clarksburg, West Virginia, will hold a public meeting at 1 p.m.-4 p.m. on Tuesday, May 16, 2000, and 9-12 noon on Wednesday, May 17, 2000, at Holiday Inn Express, Morgantown, WV, to discuss such matters as may be presented by its members, staff of the U.S. Small Business Administration, or others present.

We would appreciate it if you would publish this notice in the Federal Register on a timely basis. For further information, write or call Donald S. Carter, Acting District Director, U.S. Small Business Administration, 320 West Pike Street, Suite 330, Clarksburg, WV 26301, (304) 623-5631, Ext. 223.

Bettie Baca,
Counselor to the Administrator/Public Liaison.

[FR Doc. 00-10196 Filed 4-21-00; 8:45 am]

BILLING CODE 8025-01-P